COMMODITY FUTURES TRADING COMMISSION

Agency Information Collection Activities: Notice of Intent To Renew Collection 3038-0048, Off-Exchange Agricultural Trade Options

AGENCY: Commodity Futures Trading Commission.

ACTION: Notice.

SUMMARY: The Commodity Futures Trading Commission (CFTC) is announcing an opportunity for public comment on the proposed collection of certain information by the agency. Under the Paperwork Reduction Act of 1995 (PRA), 44 U.S.C. 3501 et seq., Federal agencies are required to publish notice in the Federal Register concerning each proposed collection of information, including each proposed extension of an existing collection of information, and to allow 60 days for public comment in response to the notice. This notice solicits comments on requirements relating to off-exchange agricultural trade options.

DATES: Comments must be submitted on or before February 27, 2009.

ADDRESSES: Comments may be mailed to David Van Wagner, Division of Market Oversight, U.S. Commodity Futures Trading Commission, 1155 21st Street, NW., Washington, DC 20581.

FOR FURTHER INFORMATION CONTACT: David Van Wagner, (202) 418-5481; FAX: (202) 418-5527; e-mail: dvanwagner@cftc.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Off-Exchange Agricultural Trade Options, OMB Control Number 3038-0048—Extension

In April 1998, the CFTC removed the prohibition on off-exchange trade options on the enumerated agricultural commodities subject to a number of regulatory requirements 63 FR 18821 (Apr. 16, 1998). Thereafter, the Commission streamlined the regulatory and paperwork burdens in order to increase the utility of agricultural trade options while maintaining basic customer protections. 64 FR 68011 (Dec. 6, 1999). Based on its experience in administering this program, the Commission has determined that its estimates of the burden of this collection of information remains unchanged based on the number of firms and individuals that may apply for registration. Responses to the collection of information are mandatory pursuant to Section 4c(b) of the Commodity Exchange Act.

The Commission estimates the burden of this collection of information as follows:

Estimated Annual Reporting Burden
17 CFR | Annual number of respondents | Frequency of response | Total annual responses | Hours per response | Total hours
17 CFR Part 32 | 360 | On occasion | 411 | 5.59 | 2,301

There are no capital costs or operating and maintenance costs associated with this collection.

Dated: December 22, 2008.
David Stawick,
Secretary of the Commission.

[FR Doc. E8-30906 Filed 12-24-08; 8:45 am]

BILLING CODE 6351-01-P